ENVIRONMENTAL PROTECTION AGENCY

[FRL-8172-9]

Draft Grant Guidelines for States and Draft Tribal Strategy; Solid Waste Disposal Act, Subtitle I, as Amended by Title XV, Subtitle B of the Energy Policy Act of 2005

AGENCY: Environmental Protection Agency.

ACTION: Notice of availability.

SUMMARY: By this notice, the Environmental Protection Agency (EPA), Office of Underground Storage Tanks (OUST) is advising the public of the future availability of draft grant guidelines EPA is developing to help states comply with requirements for receiving funding under Subtitle I of the Solid Waste Disposal Act as established in Title XV, Subtitle B of the Energy Policy Act of 2005. EPA is asking the public to comment on the guidelines as they become available. EPA also is advising the public of the future availability of a draft tribal strategy to implement section 1529 of the Energy Policy Act of 2005, and asking for public comment as it becomes available. EPA encourages interested stakeholders to regularly check EPA's Web site at: http://www.epa.gov/oust/fedlaws/epact_05.htm#Drafts where we will post the draft guidelines and draft tribal strategy as they become available over the next three months. You also may send an e-mail to OUST_Energy_Policy_Act_Email_List@epa.gov requesting that we notify you when the drafts are posted on EPA's Web site.

DATES: The draft guidelines and draft tribal strategy will become available between May 22, 2006 and August 1, 2006.

ADDRESSES: EPA will post the draft guidelines and draft tribal strategy on our web site at: http://www.epa.gov/oust/fedlaws/epact_05.htm#Drafts as they become available over the next three months. You also may send an e-mail to OUST_Energy_Policy_Act_Email_List@epa.gov requesting that we notify you when the drafts are posted on EPA's Web site. After the draft guidelines and tribal strategy are posted on EPA's Web site, paper copies will be available from the National Service Center for Environmental Publications (NSCEP), EPA's publications distribution warehouse upon request. You may request copies from NSCEP by calling 1-800-490-9198; writing to U.S. EPA/NSCEP, Box 42419, Cincinnati, OH 45242-0419; or faxing your request to NSCEP at 513-489-8695.

FOR FURTHER INFORMATION CONTACT: The EPA's Office of Underground Storage Tanks, (703) 603-9900.

SUPPLEMENTARY INFORMATION: On August 8, 2005, President Bush signed the Energy Policy Act of 2005. Title XV, Subtitle B of this act, entitled the Underground Storage Tank Compliance Act of 2005, contains amendments to Subtitle I of the Solid Waste Disposal Act, the original legislation that created the underground storage tank (UST) program. This is the first Federal legislative change for the UST program since its inception over 20 years ago. The UST provisions of the new law focus on preventing tank releases, will significantly affect federal and state underground storage tank programs, and will require major changes to the programs. Among other things, the UST provisions of the Energy Policy Act require that states receiving funding under Subtitle I comply with certain requirements contained in the law. OUST is working with its partners to develop grant guidelines which EPA regional tank programs will incorporate into states' grant agreements. The guidelines will provide states with specific requirements, based on the UST provisions of the Energy Policy Act, for their state underground storage tank programs.

To implement the new law, OUST, EPA regions, and states are working closely with tribes, other federal agencies, tank owners and operators, UST equipment industry, and other stakeholders to bring about the mandated changes affecting underground storage tank programs. Over the next few months, EPA will issue individual draft grant guidelines that contain information on requirements, as provided for in the UST provisions of the Energy Policy Act, such as: Fuel delivery prohibition; secondary containment; financial responsibility for tank installers and manufacturers; public record; and inspections. In addition, the UST provisions of the Energy Policy Act require that EPA, in coordination with Indian tribes, develop and implement a strategy for implementing the UST program in Indian country.

The UST provisions of the Energy Policy Act require EPA implement some of the provisions by August 2006; other provisions will need to be implemented in subsequent years. Once the guidelines are issued and become effective, EPA regions will incorporate the guidelines in grant agreements between EPA and states. States receiving funds from EPA for their underground storage tank programs must comply with the UST provisions of the Energy Policy Act and will be subject to action by EPA under 40 CFR 31.43 if they fail to comply with the guidelines.

The Agency is providing the public with an opportunity to comment on these draft grant guidelines and draft tribal strategy by following the process specified below. As provided in 5 U.S.C. 553(a)(2), the grant guidelines are exempt from the notice and comment rule-making procedures. Consequently, EPA will not establish a public docket for comments and may not issue separate responses to comments when it issues the final guidelines and tribal strategy.

EPA encourages interested stakeholders to regularly check EPA's Web site at: http://www.epa.gov/oust/fedlaws/epact_05.htm#Drafts where we will post the draft guidelines and draft tribal strategy as they become available over the next three months. You may also send an e-mail to OUST_Energy_Policy_Act_Email_List@epa.gov requesting that we notify you when the drafts are posted on EPA's Web site. As each draft guideline and tribal strategy is posted on EPA's Web site, we will accept comments on each for 30 days. EPA's Web site will provide information about document availability and specific public comment periods. You may submit comments by e-mail, facsimile, or mail as described on EPA's Web site. After the draft guidelines and strategy are posted on EPA's Web site, paper copies will be available from NSCEP, EPA's publications distribution warehouse upon request. You may request copies from NSCEP by calling 1-800-490-9198; writing to U.S. EPA/NSCEP, Box 42419, Cincinnati, OH 45242-0419; or faxing your request to NSCEP at 513-489-8695.

After considering public comments, EPA will issue final grant guidelines which EPA regions will incorporate into states' grant agreements. EPA will also solicit comments on a draft strategy about tanks in Indian country and, after considering public comments, will issue a final strategy about tanks in Indian country.

Dated: May 16, 2006.
Susan Parker Bodine,
Assistant Administrator, Office of Solid Waste and Emergency Response.

[FR Doc. E6-7758 Filed 5-19-06; 8:45 am]

BILLING CODE 6560-50-P